ENVIRONMENTAL PROTECTION AGENCY

[OEI-2002-0008; FRL6724-5]

Guidelines for Ensuring and Maximizing the Quality, Objectivity, Utility, and Integrity of Information Disseminated by the Environmental Protection Agency

AGENCY: Environmental Protection Agency, EPA.

ACTION: Notice of availability.

SUMMARY: The U.S. Environmental Protection Agency (EPA) has developed final Guidelines for Ensuring and Maximizing the Quality, Objectivity, Utility, and Integrity of Information Disseminated by the Environmental Protection Agency (herein after referred to as Information Quality Guidelines), in response to final Office of Management and Budget (OMB) information quality guidelines directing all federal agencies to develop and implement their own guidelines by October 1, 2002 (67 FR 8451, February 22, 2002). The EPA Information Quality Guidelines build upon on-going efforts to improve the quality of the data and analyses that support Agency policy and regulatory decisions and programs. EPA is announcing the availability of the Agency's final Information Quality Guidelines at the EPA Web site, www.epa.gov/oei/qualityguidelines. As described in the new Information Quality Guidelines, EPA is also introducing a Request for Correction process to allow affected persons to seek and obtain correction of information that EPA disseminates that they believe does not meet the EPA Information Quality Guidelines or the OMB information quality guidelines (67 FR 8451, February 22, 2002). Please read the Information Quality Guidelines to learn more about this new Request for Correction process including where and how to submit a request for correction.

DATES: The EPA final Information Quality Guidelines were made available on October 2, 2002.

ADDRESSES: The Information Quality Guidelines can be found at the EPA Web site at http://www.epa.gov/oei/qualityguidelines. To obtain a written copy of the Information Quality Guidelines, you may contact: Ms. Evangeline Tsibris Cummings, U.S. Environmental Protection Agency, Office of Environmental Information, Mail Code 2842T, 1200 Pennsylvania Avenue NW., Washington, DC 20460; Telephone: 202-566-0621; or e-mail: cummings.evangeline@epa.gov.

SUPPLEMENTARY INFORMATION: In accordance with the OMB information quality guidelines, EPA published a notice in the Federal Register on April 30, 2002 (67 FR 21234) announcing the availability of EPA's draft Information Quality Guidelines and soliciting public comment by May 31, 2002. EPA extended the comment period to June 21, 2002 (67 FR 42254). After considering the extensive public comment, EPA revised its Information Quality Guidelines and submitted the revised draft to OMB in accordance with OMB's guidelines so OMB could review the draft Information Quality Guidelines for consistency with OMB's information quality guidelines. OMB completed its review and approved of the final EPA Information Quality Guidelines. EPA's general discussion of and responses to the public comments appears in Appendix A of EPA's Information Quality Guidelines.

FOR FURTHER INFORMATION CONTACT: Ms. Evangeline Tsibris Cummings, Environmental Protection Agency, Office of Environmental Information, Mail Code 2842T, 1200 Pennsylvania Avenue NW., Washington, DC 20460. Telephone: 202-566-0621; e-mail: cummings.evangeline@epa.gov.

Elaine Stanley,
Director, Office of Information Analysis and Access, Office of Environmental Information, EPA.

[FR Doc. 02-26176 Filed 10-11-02; 8:45 am]

BILLING CODE 6560-50-P